DEPARTMENT OF TRANSPORTATION

Federal Aviation Administration

14 CFR Part 39

[Docket No. 2000-CE-50-AD]

RIN 2120-AA64

Airworthiness Directives; Cameron Balloons Ltd. (Sky Balloons) Mk1 (BR1) & Mk2 (Mistral) Burners

AGENCY: Federal Aviation Administration, DOT.

ACTION: Notice of proposed rulemaking (NPRM).

SUMMARY: This document proposes to adopt a new airworthiness directive (AD) that would apply to all aircraft (specifically balloons) that incorporate certain Cameron Balloons Ltd. (Sky Balloons) Mk1 (BR1) & Mk2 (Mistral) burners. This proposed AD would require you to replace the valve stems of the main blast, liquid fire, and pilot light valves. This proposed AD is the result of mandatory continuing airworthiness information (MCAI) issued by the airworthiness authority for the United Kingdom. The actions specified by this proposed AD are intended to correct the mechanical failure of the valve stem/seat pinned joint, which could result in a propane vapor leak. Such failure could lead to a propane explosion and fire.

DATES: The Federal Aviation Administration (FAA) must receive any comments on this proposed rule on or before October 21, 2002.

ADDRESSES: Submit comments to FAA, Central Region, Office of the Regional Counsel, Attention: Rules Docket No. 2000-CE-50-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2000-CE-50-AD” in the subject line. If you send comments electronically as attached electronic files, the files must be formatted in Microsoft Word 97 for Windows or ASCII text.

You may get service information that applies to this proposed AD from Cameron Balloons Ltd. (Sky Balloons), St. Johns Street, Bedminster, Bristol; BS3 4NH; telephone: +44 (0)117 9637216; facsimile: +44 (0)177 966168; or Cameron Balloons, P.O. Box 3672, Ann Arbor, Michigan 46106; telephone: (734) 426-5525; facsimile: (734) 426-5026. You may also view this information at the Rules Docket at the address above.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2000-CE-50-AD.” We will date stamp and mail the postcard back to you.

Discussion

What Events Have Caused This Proposed AD?

The Civil Aviation Authority (CAA), which is the airworthiness authority for the United Kingdom, recently notified the FAA that an unsafe condition may exist on aircraft (specifically balloons) that incorporate certain Cameron Balloons Ltd. (Sky Balloons) Mk1 (BR1) & Mk2 (Mistral) burners. The CAA reports there have been reports of mechanical failure of the valve stem/seat pinned joint. This could result in a propane vapor leak.

What Are the Consequences if the Condition Is Not Corrected?

This condition, if not corrected, could lead to a propane explosion and fire.

Is There Service Information That Applies to This Subject?

Cameron Balloons Ltd. (Sky Balloons) has issued Service Bulletin No. SB10, Issue A, dated May 12, 2000.

What Are the Provisions of This Service Information?

The service bulletin includes procedures for replacing valve stems in the main blast, liquid fire, and pilot light valves.

What Action Did the CAA Take?

The CAA classified this service bulletin as mandatory and issued British AD Number 003-05-2000, dated May 31, 2000, in order to ensure the continued airworthiness of these aircraft in the United Kingdom.

Was This in Accordance With the Bilateral Airworthiness Agreement?

These burners are manufactured in the United Kingdom and are approved for installation on aircraft type certificated for operations in the United States under the provisions of section 21.29 of the Federal Aviation Regulations (14 CFR 21.29) and the applicable bilateral airworthiness agreement.

Pursuant to this bilateral airworthiness agreement, the CAA has kept FAA informed of the situation described above.

The FAA's Determination and an Explanation of the Provisions of This Proposed AD

What Has FAA Decided?

The FAA has examined the findings of the CAA; reviewed all available information, including the service information referenced above; and determined that:

—The unsafe condition referenced in this document exists or could develop on type design aircraft (specifically balloons on the U.S. Registry) that incorporate certain Cameron Balloons Ltd. (Sky Balloons) Mk1 (BR1) & Mk2 (Mistral) burners;

—The actions specified in the previously-referenced service information should be accomplished on the affected aircraft; and

—AD action should be taken in order to correct this unsafe condition.

What Would This Proposed AD Require?

This proposed AD would require you to incorporate the actions in the previously-referenced service bulletin.

Why Is a Compliance of 20 Hours Time-in-Service (TIS) Used for the Actions of This AD?

Normally, FAA uses a 20-hour TIS compliance time for urgent safety of flight conditions. However, balloon operation varies among operators. It might take operators between 3 months to 12 months or more to accumulate 20 hours TIS. For this reason, FAA has determined that compliance time of this proposed AD should be 20 hours TIS to ensure this condition is corrected in a timely manner but does not unduly penalize operators.

Cost Impact

How Many Aircraft Would This Proposed AD Impact?

We estimate that this proposed AD affects 100 aircraft (specifically balloons) in the U.S. registry.

What Would Be the Cost Impact of This Proposed AD on Owners/Operators of the Affected Aircraft?

We estimate the following costs to accomplish the proposed modification:

Labor cost | Parts cost | Total cost per balloon | Total cost on U.S. operators
1 workhour × $60 per hour = $60 | $35 per burner | $60 + $35 = $95 | $95 × 100 = $9,500.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Cameron Balloons Ltd. (Sky Balloons): Docket No. 2000-CE-50-AD

(a) What aircraft are affected by this AD? This AD affects any aircraft (specifically balloons), certificated in any category, that incorporate at least one of the following burners:

Model | Serial Nos.
Mk1 (BR1) | 001 through 098, 100, and 101.
Mk2 (Mistral) | 001 through 098, 100, and 101

(b) Who must comply with this AD? Anyone who wishes to operate any aircraft (specifically balloons) with the equipment identified in paragraph (a) of this AD must comply with this AD.

(c) What problem does this AD address? The actions specified by this AD are intended to correct the mechanical failure of the valve stem/seat pinned joint, which could result in a propane vapor leak. Such failure could lead to a propane explosion and fire.

(d) What actions must I accomplish to address this problem? To address this problem, you must accomplish the following:

Actions | Compliance | Procedures
(1) On the main blast, liquid fire, and pilot light valves of the Mk1 (BR1) and Mk2 (Mistral) burners, replace: (i) valve stem part number (P/N) A4/BR1/2000/012 with a new improved-design valve, P/N CB6425; (ii) valve stem P/N A4/BR2/2000/006 with a new improved-design valve, P/N CB6426; and (iii) rubber sealing ring with O-ring P/N BS1806-008. | Within 20 hours time-in-service after the effective date of this AD, unless already accomplished | In accordance with Cameron Ballons LTD (Sky Balloons) Service Bulletin No. SB10, Issue A, dated May 12, 2000.
(2) Only install: (i) valves that are P/N CB6425 and P/N CB6426, or FAA-approved equivalent P/Ns; and (ii) O-ring P/N BS1806-008, of FAA-approved equivalent P/N. | As of the effective date of this AD | Not Applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each aircraft (specifically balloons) with a Cameron Balloons Ltd. (Sky Balloons) Mk1 or Mk2 burner identified in paragraph (a) of this AD, regardless of whether it has been modified, altered, or repaired in the area subject to the requirements of this AD. For aircraft (specifically balloons) that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Chudy, Aerospace Engineer, FAA, Small Airplane Directorate, 901 Locust, Room 301, Kansas City, Missouri 64106; telephone: (816) 329-4140; facsimile: (816) 329-4090.

(g) How do I get copies of the documents referenced in this AD? You may get copies of the documents referenced in this AD from Cameron Balloons Ltd. (Sky Balloons), St. Johns Street, Bedminster, Bristol; BS3 4NH; telephone: +44 (0)117 9637216; facsimile: +44 (0)177 966168; or Cameron Balloons, P.O. Box 3672, Ann Arbor, Michigan 46106; telephone: (734) 426-5525; facsimile: (734) 426-5026. You may view these documents at FAA, Central Region, Office of the Regional Counsel, 901 Locust, Room 506, Kansas City, Missouri 64106.

Note 2: The subject of this AD is addressed in British AD 003-05-2000, dated May 31, 2000.

Issued in Kansas City, Missouri, on September 4, 2002.
Michael Gallagher,
Manager, Small Airplane Directorate, Aircraft Certification Service.

[FR Doc. 02-23288 Filed 9-12-02; 8:45 am]

BILLING CODE 4910-13-P